ENVIRONMENTAL PROTECTION AGENCY

40 CFR Part 97

[EPA-HQ-OAR-2003-0053; FRL-8534-2]

Clean Air Interstate Rule: Notice of the Filing of Petition for Administrative Review

AGENCY: Environmental Protection Agency (EPA).

ACTION: Notice of the filing of petition for administrative review.

SUMMARY: On November, 26 2007, Nelson Industrial Steam Company (NISCO) filed a petition requesting that the Environmental Appeals Board review the Clean Air Interstate Rule (CAIR) applicability determination made on October 22, 2007. In the applicability determination, EPA concluded that NISCO's Nelson Units 1 and 2 are CAIR SO2, NOX, and NOX ozone season units because they meet the criteria for being such CAIR units under regulations of the EPA-administered CAIR trading programs.

SUPPLEMENTARY INFORMATION: In the applicability determination, EPA concluded that NISCO's Nelson Units 1 and 2 are CAIR SO2, NOX, and NOX ozone season units because they meet the criteria for being such CAIR units under 40 CFR 97.104, 97.204, and 97.304 of the EPA-administered CAIR trading programs. This appeal was filed under 40 CFR part 78. Motions for leave to intervene in the proceeding under 40 CFR 78.11 must be filed by March 28, 2008 with the Environmental Appeals Board.

FOR FURTHER INFORMATION CONTACT: Ragan Tate, Attorney-Advisor, Office of General Counsel (2344A), U.S. Environmental Protection Agency, Ariel Rios Building—North, 1200 Pennsylvania Ave., NW., Washington, DC 20460 at (202) 343-9883 or (214) 665-8020.

Dated: February 21, 2008.
Elizabeth Craig,
Acting Principal Deputy Assistant Administrator, Office of Air and Radiation.

[FR Doc. E8-3694 Filed 2-26-08; 8:45 am]

BILLING CODE 6560-50-P